DEPARTMENT OF HOUSING AND URBAN DEVELOPMENT

[Docket No. FR-5601-N-15]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.). On April 6, 2012, HUD published an announcement in the Federal Register that stated that the notice of unutilized, underutilized, excess, and surplus Federal property reviewed by HUD for suitability for use to assist the homeless would not be published in the Federal Register on April 6, 2012, but would be published on April 20, 2012. The April 6, 2012, announcement only pertained to the properties that would have been published on April 6, 2012. Because of the length of the April 6, 2012, report, the Federal Register could not accommodate publication until April 20, 2012. Today's publication, however, is the report intended to be published on April 13, 2012.

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., San Antonio, TX 78226, (210) 925-3047; Coast Guard: Commandant, United States Coast Guard, Attn: Jennifer Stomber, 2100 Second St. SW., Stop 7901, Washington, DC 20593-0001; (202) 475-5609; GSA: Mr. Gordon Creed, Acting Deputy Assistant Commissioner, General Services Administration, Office of Property Disposal, 18th & F Streets NW., Washington, DC 20405; (202) 501-0084; Navy: Mr. Steve Matteo, Department of the Navy, Asset Management Division, Naval Facilities Engineering Command, Washington Navy Yard, 1330 Patterson Ave. SW., Suite 1000, Washington, DC 20374; (202)685-9426 (These are not toll-free numbers).

Dated: April 5, 2012.
Mark R. Johnston,
Deputy Assistant Secretary for Special Needs.

TITLE V, FEDERAL SURPLUS PROPERTY PROGRAM FEDERAL REGISTER REPORT FOR 04/13/2012

Suitable/Available Properties

Building

Georgia

5 Acres

Former CB7 Radio Communication

Townsend GA 31331

Landholding Agency: GSA

Property Number: 54201210008

Status: Excess

GSA Number: 4-U-GA-885AA

Comments: 5.0 acres; current use: unknown; property located in 100-yr. floodplain—not in floodway however, no impact on utilizing property; contact GSA for more details

Montana

James F. Battin & Courthouse

316 North 26th Street

Billings MT 59101

Landholding Agency: GSA

Property Number: 54201210005

Status: Excess

GSA Number: 7-G-MT-0621-AB

Comments: 116,865 sf.; current use: office; extensive asbestos contamination; needs remediation

Nevada

Alan Bible Federal Bldg.

600 S. Las Vegas Blvd.

Las Vegas NV 89101

Landholding Agency: GSA

Property Number: 54201210009

Status: Excess

GSA Number: 9-G-NV-565

Comments: 81,247 sf.; current use: federal bldg.; extensive structural issues; needs major repairs; contact GSA for further details

New Mexico

Bldg. 310

103 West Street

Cannon NM 88103

Landholding Agency: Air Force

Property Number: 18201210114

Status: Unutilized

Comments: “Off-site removal only” is available; however, it may be difficult to relocate due to size and location; 20,000 sf.; current use: maint. shop; lead base paint identified

Oregon

2 Bldgs.

Group North Bend

North Bend OR 97459

Landholding Agency: Coast Guard

Property Number: 88201210005

Status: Excess

Directions: Bldg. and Rec. Deck

Comments: off-site removal only; 3,842 sf. for bldg.; 1,650 sf. for rec. deck; current use; office and training room; poor conditions-need repairs

Land

California

Seal Beach RR Right of Way

Seal Beach

Seal Beach CA 90740

Landholding Agency: GSA

Property Number: 54201210006

Status: Surplus

GSA Number: 9-N-CA-1508-AH

Comments: 4,721.90 sf.; current use: vacant lot between residential bldg.

Seal Beach RR Right of Way

Seal Beach

Seal Beach CA 90740

Landholding Agency: GSA

Property Number: 54201210007

Status: Surplus

GSA Number: 9-N-CA-1508-AJ

Comments: 6,028.70 sf.; current use: vacant lot between residential bldgs.

Unsuitable Properties

Building

California

Bldg. 6739

Marine Corps Air Station

San Diego CA

Landholding Agency: Navy

Property Number: 77201210008

Status: Excess

Comments: Nat'l security concerns; public access is denied due to anti-terrorism/force protection and no alternative method to gain access

Reasons: Secured Area

Texas

USCG Station Sabine

7034 South 1st Ave.

Sabine TX 77655

Landholding Agency: Coast Guard

Property Number: 88201210006

Status: Unutilized

Comments: Nat'l security concerns; no public access and no alternative method to gain access without comprising nat'l security

Reasons: Secured Area

Land

California

Parcel L1

George AFB

Victorville CA 92394

Landholding Agency: GSA

Property Number: 54200910005

Status: Surplus

GSA Number: 9-D-CA-06283

Comments: Change in reason for unsuitability; property is no longer landlocked; however, the property remains 100% in a runway clear zone.

Reasons: Within airport runway clear zone

[FR Doc. 2012-8572 Filed 4-9-12; 8:45 am]

BILLING CODE 4210-67-P